DEPARTMENT OF EDUCATION

[Docket No. ED-2021-SCC-0156]

Agency Information Collection Activities; Submission to the Office of Management and Budget for Review and Approval; Comment Request; School Pulse Panel Data Collection

AGENCY: Institute of Educational Science (IES), Department of Education (ED).

ACTION: Notice.

SUMMARY: In accordance with the Paperwork Reduction Act of 1995, ED is proposing a new information collection.

DATES: Interested persons are invited to submit comments on or before April 4, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel Data Collection.

OMB Control Number: 1850-NEW.

Type of Review: A new information collection.

Respondents/Affected Public: Individuals and Households.

Total Estimated Number of Annual Responses: 17,280.

Total Estimated Number of Annual Burden Hours: 4,752.

Abstract: The School Pulse Panel (SPP) is a new data collection originally designed to collect voluntary responses from a nationally representative sample of public schools to better understand how schools, students, and educators are responding to the ongoing stressors of the coronavirus pandemic. Due to the immediate need to collect information from schools during the pandemic to satisfy the requirement of Executive Order 14000, an emergency clearance (OMB #1850-0963) was issued to develop and field the first several monthly collections of the SPP. This submission is seeking a request for a full review of the SPP data collection under the traditional clearance review process.

The School Pulse Panel is conducted by the National Center for Education Statistics (NCES), part of the Institute of Education Sciences (IES), within the United States Department of Education. The purpose of the study is to collect extensive data on issues concerning the impact of the COVID-19 pandemic on students and staff in U.S. public primary, middle, high, and combined-grade schools. The survey asks school staff about a wide range of topics, including but not limited to instructional mode offered; enrollment counts of subgroups of students using various instructional modes; strategies to address pandemic-related learning needs; safe and healthy school mitigation strategies; mental health services; use of technology; information on staffing, nutrition services, principal/parental/student/staff concerns, absenteeism, and overall principal experiences. It is planned that some new content will be rotated in (and some rotated out) monthly. This package includes items that were fielded as part of the January, February, and March collections, as well as proposed new content to be collected in April, May, and June. Subsequent new content area additions (estimated to take place on a quarterly basis) will take place as revisions with 30-day public comment periods for each subsequent quarterly collection and may be followed by change requests to further refine items for each month.

The administration of the School Pulse Panel study is in direct response to President Biden's Executive Order 14000: Supporting the Reopening and Continuing Operation of Schools and Early Childhood Education Providers. It is one of the nation's few sources of reliable data on a wealth of information focused on school reopening efforts, virus spread mitigation strategies, services offered for students and staff, and technology use, as reported by school principals and other staff in U.S. public schools. About 2,400 (1,200 in an initial sample and 1,200 in a reserve sample) public elementary, middle, high, and combined-grade schools have been initially selected to participate in a panel where school staff will be asked to provide requested data monthly during the 2021-22 school years. This approach provides the ability to collect detailed information on various topics while also assessing changes in reopening efforts over time. Given the high demand for data collection during this time, the content of the survey will likely change monthly.

Dated: February 28, 2022.
Stephanie Valentine,
PRA Coordinator, Strategic Collections and Clearance, Governance and Strategy Division, Office of Chief Data Officer, Office of Planning, Evaluation and Policy Development.

[FR Doc. 2022-04515 Filed 3-2-22; 8:45 am]

BILLING CODE 4000-01-P